DEPARTMENT OF TRANSPORTATION

Federal Highway Administration

Notice of Final Federal Agency Actions on Proposed Highway in Utah

AGENCY: Utah Department of Transportation (UDOT), Federal Highway Administration (FHWA), Department of Transportation (DOT).

ACTION: Notice of limitation on claims for judicial review of actions by UDOT on behalf of FHWA, and Federal agencies.

SUMMARY: This notice announces certain actions taken by UDOT on behalf of FHWA and other Federal agencies that are final within the meaning of applicable laws. The actions relate to a proposed highway project located on US-89, from 11400 South to 10600 South, in the County of Salt Lake, State of Utah. Those actions grant licenses, permits and approvals for the project.

DATES: By this notice, the FHWA, on behalf of UDOT, is advising the public of final agency actions subject to 23 U.S.C. 139(l)(1). A claim seeking judicial review of the Federal agency actions on the highway project will be barred unless the claim is filed on or before December 21, 2017. If the Federal law that authorizes judicial review of a claim provides a time period of less than 150 days for filing such claim, then that shorter time period still applies.

FOR FURTHER INFORMATION CONTACT: For UDOT: Brandon Weston, Director of Environmental Services, UDOT Environmental Services, PO Box 148380, Salt Lake City, UT 84114; telephone: (801) 965-4603; email: brandonweston@utah.gov. UDOT's normal business hours are 8:00 a.m. to 5:00 p.m. (Mountain Standard Time), Monday through Friday, except State and Federal holidays.

SUPPLEMENTARY INFORMATION: The environmental review, consultation, and other actions required by applicable Federal environmental laws and regulations for this project are being or have been carried-out by UDOT pursuant to 23 U.S.C. 327 and a Memorandum of Understanding dated January 17, 2017 and executed by FHWA and UDOT pursuant to 23 U.S.C. 327. Notice is hereby given that UDOT has taken final agency actions subject to 23 U.S.C. 139(l)(1) by issuing licenses, permits, and approvals for the US-89; 11400 South to 10600 South project in the State of Utah. This project proposes to improve US-89 (State Street) from 11400 South to 10600 South to address traffic congestion located in the Cities of Sandy and Draper, Salt Lake County, Utah. The project consists of widening State Street from five to seven lanes and adding (1) a second southbound to westbound right-turn lane at the State Street and 11400 South intersection, (2) a traffic signal at the Scheels driveway, and (3) a raised median on select sections of State Street to limit left-turns. These improvements were identified in the Environmental Assessment for the project. The actions by UDOT and the Federal agencies, and the laws under which such actions were taken, are described in the Environmental Assessment (EA) for the project (US-89; 11400 South to 10600 South Environmental Assessment in Salt Lake County, Utah, Project No. F-0089(375)364), approved on July 18, 2017, in the UDOT Finding of No Significant Impact (FONSI) for the project (Utah Department of Transportation Finding of No Significant Impact for US-89; 11400 South to 10600 South in Salt Lake County, Utah) issued on July 18, 2017, and in other documents in the UDOT project records. The EA, FONSI, and other project records are available by contacting UDOT at the address provided above. The EA and FONSI can be viewed and downloaded from the project Web site at https://www.udot.utah.gov/main/f?p=100:pg:0:::1:T,V:4845.

This notice applies to the EA, the FONSI, the Section 4(f) Determination, the NHPA Section 106 Review, and all other UDOT and Federal agency decisions as of the issuance date of this notice and all laws under which such actions were taken, including but not limited to the following laws (including their implementing regulations):

1. General: National Environmental Policy Act (NEPA),42 U.S.C. 4321-4351; Federal-Aid Highway Act, 23 U.S.C. 109 and 23 U.S.C. 128.

2. Air: Clean Air Act, 42 U.S.C. 7401-7671q.

3. Land: Section 4(f) of the Department of Transportation Act of 1966,49 U.S.C. 303; 23 U.S.C. 138; Landscaping and Scenic Enhancement (Wildflowers), 23 U.S.C. 319.

4. Wildlife: Endangered Species Act, 16 U.S.C. 1531-1544 and Section 1536; Fish and Wildlife Coordination Act, 16 U.S.C. 661-667d; Migratory Bird Treaty Act, 16 U.S.C. 703-712.

5. Water: Section 404 of the Clean Water Act, 33 U.S.C. 1344; E.O. 11990, Protection of Wetlands.

6. Historic and Cultural Resources: Section 106 of the National Historic Preservation Act of 1966, 16 U.S.C. 470f; Archeological Resources Protection Act of 1977, 16 U.S.C. 470aa-470mm; Archeological and Historic Preservation Act, 16 U.S.C. 469-469c.

7. Noise: Federal-Aid Highway Act of 1970, Public Law 91-605, 84 Stat. 1713.

8. Executive Orders: E.O. 11593 Protection and Enhancement of Cultural Resources; E.O. 13287 Preserve America; E.O. 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1).

Ivan Marrero,
Division Administrator, Federal Highway Administration, Salt Lake City, Utah.

[FR Doc. 2017-15480 Filed 7-21-17; 8:45 am]

BILLING CODE 4910-RY-P